COUNCIL ON ENVIRONMENTAL QUALITY

Economic and Environmental Principles and Guidelines for Water and Related Land Resources Implementation Studies; Request for Comments on the Interagency Guidelines

AGENCY: Council on Environmental Quality.

ACTION: Draft guidelines with request for comments.

SUMMARY: Section 2031 of the Water Resources Development Act of 2007 (Pub. L. 110-114) directed the Secretary of the Army to revise the “Economic and Environmental Principles and Guidelines for Water and Related Land Resources Implementation Studies” (Principles and Guidelines), dated March 10, 1983, consistent with several considerations enumerated in the Act.

The revised Principles and Guidelines consist of three key components: (1) The Principles and Requirements (formerly called Principles and Standards), setting out broad policy and principles that guide investments; (2) the Interagency Guidelines, providing guidance to Federal agencies for determining the applicability of the Principles and Guidelines and for developing agency-specific implementing procedures for formulating, evaluating, and comparing water resources projects, programs, activities and related actions; and (3) the Agency Specific Procedures, outlining agency-specific procedures for incorporating the Principles and Requirements into agency missions and programs.

This notice is to provide an opportunity for interested individuals and organizations to submit comments on the draft Interagency Guidelines, one key component of the Principles and Guidelines. The draft Interagency Guidelines are available for review and comments can be submitted through the Web site, www.whitehouse.gov/administration/eop/ceq/initiatives/PandG/.

DATES: Submit comments on or before May 28, 2013.

ADDRESSES: www.whitehouse.gov/administration/eop/ceq/initiatives/PandG.

FOR FURTHER INFORMATION CONTACT: Catherine Shuman, Council on Environmental Quality at (202) 395-5750.

SUPPLEMENTARY INFORMATION: Section 2031 of the Water Resources Development Act of 2007 (Pub. L. 110-114) directed the Secretary of the Army to revise the “Economic and Environmental Principles and Guidelines for Water and Related Land Resources Implementation Studies,” dated March 10, 1983, consistent with several considerations enumerated in the Act.

Additional information on the revision process is available at www.whitehouse.gov/administration/eop/ceq/initiatives/PandG.

Dated: March 22, 2013.
Nancy H. Sutley,
Chair, Council on Environmental Quality.

[FR Doc. 2013-07090 Filed 3-26-13; 8:45 am]

BILLING CODE 3225-F3-P